DEPARTMENT OF COMMERCE

National Oceanic and Atmospheric Administration

50 CFR Part 229

RIN 0648-BC90

Taking of Marine Mammals Incidental to Commercial Fishing Operations; Atlantic Large Whale Take Reduction Plan Regulations

AGENCY: National Marine Fisheries Service (NMFS), National Oceanic and Atmospheric Administration (NOAA), Commerce.

ACTION: Final rule; correction.

SUMMARY: This document contains corrections to the final rule to amend regulations implementing the Atlantic Large Whale Take Reduction Plan, which published June 27, 2014, with an effective date of August 26, 2014.

DATES: Effective August 26, 2014.

FOR FURTHER INFORMATION CONTACT: Kate Swails, NMFS, Greater Atlantic Region, 978-282-8481, Kate.Swails@noaa.gov; or Kristy Long, NMFS Office of Protected Resources, 301-427-8440, Kristy.Long@noaa.gov.

SUPPLEMENTARY INFORMATION: The final rule contains errors concerning the delineation of the boundary of the Cape Cod Bay Restricted Management Area. In addition, the final rule incorrectly omitted New Hampshire state waters from the definition of the Northern Inshore State Waters Management Area. This correction notice provides clarification regarding the correct boundaries of these management areas.

This final rule has been determined to be not significant for the purposes of Executive Order 12866. The Assistant Administrator for Fisheries, NOAA, finds good cause under the Administrative Procedures Act to waive notice and opportunity for public comments as it is unnecessary for a non-substantive correcting amendment.

Corrections

Accordingly, the final rule, in FR Doc. 2014-14936, published on June 27, 2014, in 79 FR 36586, is corrected as follows:

1. On page 36614, in column 3, § 229.32(c)(7)(i) is revised to read as follows:

§ 229.32 Atlantic large whale take reduction plan regulations.

* * * * *

(c) * * *

(7) Northern Inshore State Trap/Pot Waters Area—(i) Area. The Northern Inshore State Trap/Pot Waters Area includes the state waters of Rhode Island, Massachusetts, New Hampshire, and Maine, with the exception of Massachusetts Restricted Area and those waters exempted under paragraph (a)(3) of this section. Federal waters west of 70°00′ N. lat. in Nantucket Sound are also included in the Northern Inshore State Trap/Pot Waters Area.

* * * * *

2. On page 36616, in column 3, § 229.32(d)(3)(i) is revised to read as follows:

§ 229.32 Atlantic large whale take reduction plan regulations.

* * * * *

(d) * * *

(3) Cape Cod Bay Restricted Area—(i) Area. The Cape Cod Bay restricted area is bounded by the following points and on the south and east by the interior shoreline of Cape Cod, Massachusetts.

Point | N. lat. | W. long.
CCB1 | 41°46.8′ | 70°30′
CCB2 | 42°12′ | 70°30′
CCB3 | 42°12′ | 70°15′
CCB4 | 42°04.8′ | 70°10′

* * * * *

3. On page 36618, in column 2, § 229.32(e)(1)(i) is revised to read as follows:

§ 229.32 Atlantic large whale take reduction plan regulations.

* * * * *

(e) Restrictions applicable to drift gillnet gear—(1) Cape Cod Bay Restricted Area—(i) Area. The Cape Cod Bay Restricted Area is bounded by the following points and on the south and east by the interior shoreline of Cape Cod, Massachusetts.

Point | N. lat. | W. long.
CCB1 | 41°46.8′ | 70°30′
CCB2 | 42°12′ | 70°30′
CCB3 | 42°12′ | 70°15′
CCB4 | 42°04.8′ | 70°10′

* * * * *

Dated: August 18, 2014.
Samuel D. Rauch III,
Deputy Assistant Administrator for Regulatory Programs, National Marine Fisheries Service.

[FR Doc. 2014-20003 Filed 8-21-14; 8:45 am]

BILLING CODE 3510-22-P